ENVIRONMENTAL PROTECTION AGENCY

[FRL-7116-9]

Proposed CERCLA 122(h) Administrative Agreement for Collection of Past Costs

AGENCY: U.S. Environmental Protection Agency (USEPA).

ACTION: Notice.

SUMMARY: USEPA is proposing to execute an Administrative Agreement (Agreement) under section 122 of CERCLA for collection of a percentage of past response costs at the SCD Chemical Superfund Site. The Settling Party, the Bankruptcy Trustee for the bankruptcy estate of the owner of the property upon which the Superfund Site is located, has agreed, to pay 50% of the net proceeds of sale of the Site property (after payment of the real estate broker's commission, transfer taxes, and closing costs, and liens, such as real property taxes). The property was sold for $150,000 and the proposed distribution to EPA from the sale has been determined by the parties to be 39,768.63. The Settling Party would receive an agreement to make no further claim against the Debtor's estate for its response costs, except for the proposed distribution from the proceeds of the sale of the Subject Property. USEPA today is proposing to execute this Agreement because it provides reimbursement to USEPA for part of its past costs at the SCD Chemical Site.

DATES: Comments on this proposed settlement must be received by January 11, 2002.

ADDRESSES: Copies of the proposed settlement are available at the following address for review: (It is recommended that you telephone Ms. Cheryl Allen at (312) 353-6196 before visiting the Region V Office).

Ms. Cheryl Allen, OPA (P19-J), Coordinator, Office of Public Affairs, U.S. Environmental Protection Agency, Region V, 77 W. Jackson Boulevard (P-19J), Chicago, Illinois 60604, (312) 353-6196.

Comments on this proposed settlement should be addressed to: (Please submit an original and three copies, if possible)

Ms. Cheryl Allen, Coordinator, Office of Public Affairs, U.S. Environmental Protection Agency, Region V, 77 W. Jackson Boulevard (P-19J), Chicago, Illinois 60604, (312) 353-6196.

FOR FURTHER INFORMATION CONTACT: Ms. Cheryl Allen, Office of Public Affairs, at (312) 353-6196.

SUPPLEMENTARY INFORMATION: The Site is approximately a 3-acre property with two abandoned industrial buildings and open grounds area and is located at 14100 Fullerton Avenue in Detroit, Michigan (Wayne County). The Site before the Superfund removal action contained approximately 900 55-gallon drums and numerous smaller containers filled with material, including hazardous substances, from the chemical packaging and distribution operation that was located on the Site. All of these materials were removed. Pursuant to the terms of the administrative agreement the Settling Party has agreed to pay 50% of the net proceeds of sale of the Site property (after payment of the real estate broker's commission, transfer taxes, and closing costs, and liens, such as real property taxes) towards past costs associated with investigation and enforcement of CERCLA at the Site. The property was sold for $150,000 and the proposed distribution to EPA from the sale has been determined by the parties to be $39,768.63. The Site is not on the National Priorities List. The Agreement has been executed by the Settling Party. The Settling Party would receive an agreement to make no further claim against the Debtor's estate for its response costs, except for the proposed distribution from the proceeds of the sale of the Subject Property.

A 30-day period, beginning on the date of publication, is open pursuant to section 122(i) of CERCLA for comments on the proposed Administrative Agreement.

Comments should be sent to Ms. Cheryl Allen of the Office of Public Affairs (P-19J), U.S. Environmental Protection Agency, Region V, 77 W. Jackson Boulevard, Chicago, Illinois 60604.

William E. Muno,
Director, Superfund Division, United States Environmental Protection Agency.

[FR Doc. 01-30742 Filed 12-11-01; 8:45 am]

BILLING CODE 6560-50-P